ENVIRONMENTAL PROTECTION AGENCY

[ER-FRL-6679-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20050459, ERP No. D-BLM-A82127-00, Programmatic—Vegetation Treatments Using Herbicides on Bureau of Land Management Public Lands in 17 Westerns, including Alaska

Summary: EPA expressed environmental concerns about surface and ground water impacts, protected beneficial uses and non-targeted flora and fauna. Additionally, EPA recommended that the final EIS address how meeting goals and endpoints will be evaluated and how monitoring will be conducted. Rating EC2.

EIS No. 20060164, ERP No. D-AFS-J65462-00, Dakota Prairie Grasslands Noxious Weed Management Project, Implementation, Billings, Slope, Golden Valley, Sioux, Grant, McHenry, Ransom and Richard Counties, ND and Carson, Perkins, and Zwieback Counties, SD.

Summary: EPA supports the proposed integrated weed management project. Rating LO.

EIS No. 20060178, ERP No. D-WPA-J08026-00, Big Stone II Power Plant and Transmission Project, Propose Power Plant, Transmission Alternatives, and Substation Modification, (DOE/EIS-0377), US Army COE Section 10 and 404 Permits, Big Stone City, Grant County, SD and Big Stone County, MN.

Summary: EPA expressed environmental objections because of the project's anticipated wetland impacts, and asked for additional information to determine the least environmentally damaging practicable alternative. Rating EO2.

EIS No. 20060184, ERP No. D-COE-D35062-MD, Masonville Dredge Material Containment Facility (DMCF), Construction from Baltimore Harbor Channel north of Point-Rock Point Line, U.S. Army COE Section 10 and 404 Permits, Baltimore, MD.

Summary: EPA expressed environmental concerns about potential impacts associated with the placement of fill into a large area of Patapsco River, and requested that a mitigation plan be developed and be approved by the resource agencies prior to the Final EIS and before the issuance of the Section 404 permit for the project. Rating EC2.

EIS No. 20060220, ERP No. D-BLM-L65513-ID, Snake River Birds of Prey National Conservation Area, Resource Management Plan, Implementation, Ada, Canyon, Elmore, Owyhee Counties, ID.

Summary: EPA supports proposed conservation efforts to protect and enhance raptor and raptor prey habitats, but suggests incorporating elements from Alternative C which reduce land disturbances and mitigate for impacts such as erosion, sedimentation, reduced streambank stability, reduce opportunities for spreading noxious plants. Rating EC1.

EIS No. 20060242, ERP No. D-FHW-F40436-WI, TIER 1-DEIS—US 8 Project, Construction from Wisconsin 35 (N) to U.S. 53, Funding and Right-of-Way Permit, Polk and Barron Counties, WI.

Summary: EPA expressed environmental concerns about impacts to wetlands, sensitive watersheds and streams, impaired waters and upland forest. Rating EC2.

EIS No. 20060268, ERP No. D-FHW-C40337-DC, 11th Street Bridges Project, Anacostia Freeway I-295/DC 295, to the Southeast/Southwest Freeway (I-695) Improvements, Funding, NPDES Permit , U.S. Army COE Section 10 and 404 Permits, Washington, DC.

Summary: EPA expressed environmental concerns about wetland, water quality, aquatic habitat and noise impacts. EPA requested additional information and mitigation. Rating EC2.

EIS No. 20060271, ERP No. D-CGD-A11078-00, Programmatic—Implementation of the U.S. Coast Guard Nationwide Automatic Identification System Project, Providing Vessel Identification, Tracking and Information Exchange Capabilities to Support National Maritime Interests.

Summary: EPA does not object to the proposed action. Rating LO.

EIS No. 20060280, ERP No. D-AFS-J65466-00, North Zone Range 05 Project, Reauthorizing Livestock Grazing on Eight Existing Allotments, Black Hill National Forest, Bearlodge and Northern Hills Ranger Districts, Crook County, WY and Lawrence County, SD.

Summary: EPA expressed environmental concerns because range condition assessments appear to be used as a replacement for inventory and monitoring protocols providing biological information on riparian areas. The Final EIS should address inconsistencies between the information presented and stated conclusions regarding current conditions of allotments, and impacts of grazing on soil and water quality. In addition, the Final EIS should include water quality data, site-specific monitoring and/or mitigation plan with identified trigger points, and any other supplemental information used to support range management decisions. Rating EC2.

EIS No. 20060299, ERP No. D-FRC-C05149-NY, Niagara Project, Hydroelectric Relicensing Application FERC No. 2216, Niagara River, Niagara County, NY.

Summary: EPA expressed environmental concerns about potential cumulative impacts to water levels, and requested that this issue be fully discussed in the final IS. Rating EC2.

EIS No. 20060269, ERP No. DS-COE-D35062-MD, Masonville Dredged Material Containment Facility, New Information, New Source of Dike Building Material from the Seagirt Dredging Project within the Patapsco River, Funding, Baltimore, MD.

Summary: EPA expressed environmental concerns about potential impacts associated with the placement of fill into a large area of Patapsco River, and requested that a mitigation plan be developed and be approved by the resource agencies prior to the Final EIS and before the issuance of the Section 404 permit for the project. Rating EC2.

Final EISs

EIS No. 20060197, ERP No. F-FHW-J40171-CO, US Highway 160, Transportation Improvements from Junction U.S. 160/550 Durango—East to Bayfield, US Army COE Section 404 Permit, La Plata County, CO.

Summary: EPA continues to express environmental concerns about wetland impacts and the mitigation of those impacts. EPA is also concerned about construction-related air quality impacts, and requested mitigation be developed to reduce those impacts.

EIS No. 20060293, ERP No. F-SFW-F64005-00, Upper Mississippi River National Wildlife and Fish Refuge, Comprehensive Conservation Plan, A New Alternative E: Modified Wildlife and Integrated Public Use, Implementation, MN, WI, Il and IA.

Summary: EPA does not object to the selection of the preferred alternative.

EIS No. 20060304, ERP No. F-AFS-L65505-ID, Clear Prong Project, Timber Harvest, Temporary Road Construction, Road Maintenance, Road Decommissioning, Thinning of Sub-Merchantable Tree, and Prescribed Fire, Boise National Forest, Cascade Ranger District, Valley County, ID.

Summary: EPA's previous concerns have been resolved; therefore, EPA does not object to the proposed action.

EIS No. 20060319, ERP No. F-NPS-G61043-AR, Pea Ridge National Military Park General Management Plan, Implementation, AR.

Summary: No formal comment letter was sent to the preparing agency.

EIS No. 20060174, ERP No. FS-AFS-J65438-WY, Dean Project Area, Proposes to Implement Multiple Resource Management Actions, New Information to Disclose Direct, Indirect, and Cumulative Environmental Impacts, Black Hills National Forest, Bearlodge Ranger District, Sundance, Crook County, WY.

Summary: EPA continues to express environmental concerns about cumulative impacts to water quality, aquatic life, and terrestrial wildlife.

Dated: September 12, 2006.
Robert W. Hargrove,
Director, NEPA Compliance Division, Office of Federal Activities.

[FR Doc. E6-15343 Filed 9-14-06; 8:45 am]

BILLING CODE 6560-50-P